DEPARTMENT OF ENERGY

Federal Energy Regulatory Commission

[Docket Nos. RM07-16-000; RM01-5-000; and RM12-3-000]

Effective Date of Revised Company Registration Requirements

AGENCY: Federal Energy Regulatory Commission, DOE.

ACTION: Notice.

SUMMARY: This document establishes the effective date of the Revised Company Registration Requirements. The Commission issued a Notice in the Federal Register, 78 FR 10,614 (February 14, 2013), requesting public comments by April 15, 2013.

DATES: Effective on August 5, 2013.

FOR FURTHER INFORMATION CONTACT: For legal issues: Nicholas Gladd, Office of the General Counsel, Federal Energy Regulatory Commission, 888 First Street NE., Washington, DC 20426, (202) 502-8836, Nicholas.Gladd@ferc.gov.

For technical issues: Anthony Barracchini, Office of the Executive Director, Federal Energy Regulatory Commission, 888 First Street NE., Washington, DC 20426, 202-502-8940, anthony.barracchini@ferc.gov.

SUPPLEMENTARY INFORMATION:

Notice of Effective Date of Revised Company Registration Requirements

Take notice that beginning on August 5, 2013, the Commission will implement the new company registration format for those filings requiring the use of a Company Identifier (CID) number. The company registration system currently applies only to electronic tariff (eTariff) and Electric Quarterly Report (EQR) filings and does not apply to, or change the procedures relating to, other filings made through the Commission's eFiling system.

After August 5, filings requiring the use of a CID number cannot be made until the filer either has registered using the new format or transitioned its existing company registration to the new format. Companies required to file using CIDs are urged to register or complete the transition process prior to making a filing to avoid the potential for registration problems on the day of the filing.

As explained in the Commission's February 7, 2013 order,¹ the new system adopts a revised method of authenticating filings requiring the use of a CID number that improves the filer's security by eliminating the practical need under the current CID system for a filing company to share its company registration password.² Under the new system, the filer will maintain a list of eRegistered account administrators and agents whom it has authorized to submit filings on its behalf. Account administrators, in addition to making filings themselves, will have additional rights to administer the company registration account settings and designate agents to make filings. To make a filing, an account administrator or agent will use its individual eRegistration account to log onto FERC Online and choose the type of filing (e.g., eTariff), and then will be presented with a list of all the filing companies for which they are registered to make that type of filing.

¹ Revisions to Company Registration and Establishing Technical Conference, 142 FERC ¶ 61,097 (2013).

² A company with an existing CID will use its password to effectuate the transition to the new process. After the transition, the password will not be needed.

A detailed instruction manual for the new company registration system is posted at http://www.ferc.gov/docs-filing/revised-company-registration-instruct.pdf.

For more information, please contact:

For legal issues: Nicholas Gladd, Office of the General Counsel, Federal Energy Regulatory Commission, 888 First Street NE., Washington, DC 20426, (202) 502-8836, Nicholas.Gladd@ferc.gov.

For technical issues: Anthony Barracchini, Office of the Executive Director, Federal Energy Regulatory Commission, 888 First Street NE., Washington, DC 20426, 202-502-8940, anthony.barracchini@ferc.gov.

Dated: July 17, 2013.
Kimberly D. Bose,
Secretary.

[FR Doc. 2013-17727 Filed 7-23-13; 8:45 am]

BILLING CODE 6717-01-P